NATIONAL INDIAN GAMING COMMISSION

2017 Preliminary Fee Rate and Fingerprint Fees

AGENCY: National Indian Gaming Commission.

ACTION: Notice.

SUMMARY: Notice is hereby given that the National Indian Gaming Commission has adopted its 2017 preliminary annual fee rates of 0.00% for tier 1 and 0.062% (.00062) for tier 2, which remain the same as the 2016 final fee rates. The tier 2 annual fee rate represents the lowest fee rate adopted by the Commission since 2010. These rates shall apply to all assessable gross revenues from each gaming operation under the jurisdiction of the Commission. If a tribe has a certificate of self-regulation under 25 CFR part 518, the 2017 preliminary fee rate on Class II revenues shall be 0.031% (.00031) which is one-half of the annual fee rate. The preliminary fee rates being adopted here are effective March 1, 2017, and will remain in effect until new rates are adopted.

The National Indian Gaming Commission has also adopted its 2017 preliminary fingerprint processing fees of $18 per card. The new fees represent a $3 decrease from the current fingerprint processing fees of $21 per card which has been in effect since 3/1/2015. The decrease is attributable to the lower fingerprint processing fee charged by the Federal Bureau of Investigation as a result of the fee study conducted by the Department of Justice. This new fingerprint processing fees of $18 per card will be retroactively effective 10/1/2016. A credit of $3 per card will be issued to all gaming operations which submitted fingerprint cards to the NIGC between 10/1/2016 and 2/28/2017.

FOR FURTHER INFORMATION CONTACT: Yvonne Lee, National Indian Gaming Commission, 1849 C Street NW., Mail Stop #1621, Washington, DC 20240; telephone (202) 632-7003; fax (202) 632-7066.

SUPPLEMENTARY INFORMATION: The Indian Gaming Regulatory Act (IGRA) established the National Indian Gaming Commission, which is charged with regulating gaming on Indian lands.

Commission regulations (25 CFR 514) provide for a system of fee assessment and payment that is self-administered by gaming operations. Pursuant to those regulations, the Commission is required to adopt and communicate assessment rates and the gaming operations are required to apply those rates to their revenues, compute the fees to be paid, report the revenues, and remit the fees to the Commission. All gaming operations within the jurisdiction of the Commission are required to self-administer the provisions of these regulations, and report and pay any fees that are due to the Commission.

Pursuant to 25 CFR 514, the Commission must also review regularly the costs involved in processing fingerprint cards and set a fee based on fees charged by the Federal Bureau of Investigation and costs incurred by the Commission. Commission costs include Commission personnel, supplies, equipment costs, and postage to submit the results to the requesting tribe.

Dated: February 24, 2017.
Jonodev O. Chaudhuri,
Chairman.
Kathryn C. Isom-Clause,
Vice Chair.
E. Sequoyah Simermeyer,
Associate Commissioner.

[FR Doc. 2017-03978 Filed 2-28-17; 8:45 am]

BILLING CODE 7565-01-P